DEPARTMENT OF AGRICULTURE

Office of Procurement and Property Management

7 CFR Part 3201

RIN 0599-AA16

Designation of Product Categories for Federal Procurement; Withdrawal

AGENCY: Office of Procurement and Property Management, Departmental Management, USDA.

ACTION: Final rule; withdrawal.

SUMMARY: The U.S. Department of Agriculture (USDA) is withdrawing the final rule “Designation of Product Categories for Federal Procurement” published April 1, 2013, at 78 FR 19393. The final rulemaking, which amended the Guidelines for Designating Biobased Products for Federal Procurement, to add eight sections to designate product categories within which biobased products will be afforded Federal procurement preference, was published prematurely due to an oversight in the development process.

DATES: The final rule published April 1, 2013 (78 FR 19393) is withdrawn effective April 8, 2013.

FOR FURTHER INFORMATION CONTACT: Ron Buckhalt, USDA, Office of Procurement and Property Management, Room 361, Reporters Building, 300 7th St. SW., Washington, DC 20024; email: biopreferred@usda.gov; phone (202) 205-4008. Please cite “7 CFR Part 3201, RIN 0599-AA16” in all correspondence.

SUPPLEMENTARY INFORMATION: On April 1, 2013, USDA published a final rule, to be effective May 1, 2013, amending the Guidelines for Designating Biobased Products for Federal Procurement, to add eight sections to designate product categories within which biobased products will be afforded Federal procurement preference, as provided for under section 9002 of the Farm Security and Rural Investment Act of 2002, as amended by the Food, Conservation, and Energy Act of 2008. The rule also adds a new subcategory to one previously designated product category and establishes minimum biobased contents for each of these product categories and subcategories. The rule also changes the term “item” to product category.

Due to an oversight in the development process, USDA published the final rule prematurely and, therefore, is withdrawing it. OPPM anticipates republishing the rulemaking in the coming months.

Signed in Washington, DC, on April 1, 2013.
Lisa M. Wilusz,
Director, Office of Procurement and Property Management.

[FR Doc. 2013-08026 Filed 4-5-13; 8:45 am]

BILLING CODE 3410-93-P